DEPARTMENT OF THE INTERIOR

National Park Service

[N6439; NPS-WASO-NAGPRA-NPS0040849; PPWOCRADN0-PCU00RP14.R50000]

Notice of Inventory Completion: The John Spellman Library at Grays Harbor College, Aberdeen, WA

AGENCY: National Park Service, Interior.

ACTION: Notice.

SUMMARY: In accordance with the Native American Graves Protection and Repatriation Act (NAGPRA), the John Spellman Library at Grays Harbor College (GHC Library) has completed an inventory of human remains and has determined that there is a cultural affiliation between the human remains and Indian Tribes or Native Hawaiian organizations in this notice.

DATES: Repatriation of the human remains in this notice may occur on or after September 22, 2025.

ADDRESSES: Send written requests for repatriation of the human remains in this notice to Haley McGraw, John Spellman Library at Grays Harbor College, 1620 Edward P. Smith Drive, Aberdeen, WA 98520, email haley.mcgraw@ghc.edu.

SUPPLEMENTARY INFORMATION: This notice is published as part of the National Park Service's administrative responsibilities under NAGPRA. The determinations in this notice are the sole responsibility of the GHC Library and additional information on the determinations in this notice, including the results of consultation, can be found in its inventory or related records. The National Park Service is not responsible for the determinations in this notice.

Abstract of Information Available

Human remains representing, at least, six individuals have been identified. No associated funerary objects are present. These remains may belong to up to six different individuals, and were recovered from a common grave near South Bay Hunt Club, Bay City, between Aberdeen, WA, and Westport, WA, in Grays Harbor County during the excavation of a parking lot. There were no associated funerary objects present, and there are currently no potentially hazardous substances present. The Department of Archaeology and Historic Preservation released these remains to us because they were determined to be Native American or possibly Native American. Ed Van Syckle, a historian, believes them to possibly belong to the Chehalis Indians or other nearby Tribes.

Cultural Affiliation

Cultural affiliation is reasonably identified by the geographical location or acquisition history of the human remains described in this notice.

Determinations

The GHC Library has determined that:

• The human remains described in this notice represent the physical remains of six individuals of Native American ancestry.

• There is a connection between the human remains described in this notice and the Confederated Tribes of the Chehalis Reservation; Quinault Indian Nation; and the Shoalwater Bay Indian Tribe of the Shoalwater Bay Indian Reservation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 22, 2025. If competing requests for repatriation are received, the GHC Library must determine the most appropriate requestor prior to repatriation. Requests for joint repatriation of the human remains are considered a single request and not competing requests. The GHC Library is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15970 Filed 8-20-25; 8:45 am]

BILLING CODE 4312-52-P